DEPARTMENT OF ENERGY

Federal Energy Regulatory Commission

[Docket No. ER09-88-003]

Southern Company Services, Inc.; Notice of FERC Staff Attendance

November 25, 2009.

The Federal Energy Regulatory Commission (Commission) hereby gives notice that members of its staff will participate in a conference call initiated by Southern Company Services, Inc. (Southern Company) to discuss implementation of Phase II of Southern Company's Energy Auction, the registration process, the Mock Auction sign-up process, and interaction with the new Independent Auction Administrator and other related issues. The conference call will take place on Wednesday, December 2, 2009, from 10 a.m. until 11 a.m. EST. Call participants will have an opportunity to ask questions.

Information on the conference call is available on Southern Company's Energy Auction Web site at: http://www.southerncompany.com/energyauction/announcements_nov2009.aspx.

Sponsored by Southern Company, the conference call is open to all interested auction participants, and staff's participation is part of the Commission's ongoing outreach efforts. The conference call will include discussions relating to matters at issue in the above captioned proceeding.

For further information, contact Connie Caldwell at connie.caldwell@ferc.gov; (202) 502-6489 or Jeffrey Honeycutt at jeffrey.honeycutt@ferc.gov; (202) 502-6505.

Nathaniel J. Davis, Sr.,
Deputy Secretary.

[FR Doc. E9-29089 Filed 12-4-09; 8:45 am]

BILLING CODE 6717-01-P